INTERNATIONAL BOUNDARY AND WATER COMMISSION, UNITED STATES AND MEXICO

Notice of Availability of the Final Supplemental Environmental Assessment and Finding of No Significant Impact for Improvements to the Mission Levee Protective System in Hidalgo County, TX

AGENCY: United States Section, International Boundary and Water Commission, United States and Mexico (USIBWC).

ACTION: Notice of Availability of the Final Supplemental Environmental Assessment (SEA) and Finding of No Significant Impact (FONSI).

SUMMARY: Pursuant to Section 102(2)(c) of the National Environmental Policy Act (NEPA) of 1969, the Council on Environmental Quality Final Regulations (40 CFR Parts 1500 through 1508), and the United States Section`s Operational Procedures for Implementing Section 102 of NEPA, published in the Federal Register September 2, 1981 (46 FR 44083); the USIBWC hereby gives notice of availability of the Final Supplemental Environmental Assessment and FONSI for Improvements to the Mission Levee Protective System located in Hidalgo County, Texas is available. A notice of finding of no significant impact dated April 6, 2011, provided a thirty (30) day comment period before making the finding final. The Notice was published in the Federal Register on April 6, 2011 (Federal Register Notice, Vol. 76, No. 66, Page 19124).

FOR FURTHER INFORMATION CONTACT: Daniel Borunda, Natural Resources Specialist, Environmental Management Division, United States Section, International Boundary and Water Commission; 4171 N. Mesa, C-100; El Paso, Texas 79902. Telephone: (915) 832-4767; email: Daniel.Borunda@ibwc.gov.

Availability: Electronic copies of the Final EA and FONSI are available from the USIBWC Home Page at http://www.ibwc.state.gov.

Dated: November 2, 2011.
Steven Fitten,
Legal Counsel.

[FR Doc. 2011-28855 Filed 11-7-11; 8:45 am]

BILLING CODE 4710-01-P